DEPARTMENT OF STATE

[Public Notice 4960]

Bureau of Educational and Cultural Affairs (ECA) Request for Grant Proposals: FY2006 Hubert H. Humphrey Fellowship Program

Announcement Type: New Cooperative Agreement.

Funding Opportunity Number: ECA/A/S/U-06-01.

Catalog of Federal Domestic Assistance Number: 00.000.

Application Deadline: March 18, 2005.

Executive Summary: The U.S. Department of State's Bureau of Educational and Cultural Affairs (ECA) and the Office of Global Educational Programs announce an open competition for the Hubert H. Humphrey Fellowship Program. Public and private non-profit organizations meeting the provisions described in Internal Revenue Code section 26 U.S.C. 501(c)(3) may submit proposals to cooperate with the Bureau in the administration and implementation of the FY2006 Hubert H. Humphrey Fellowship Program. It is anticipated that the total grant award for all FY2006 program and administrative expenses will be approximately $9,000,000. Please indicate the number of participants that can be accommodated at this funding level, based on detailed calculations of program and administrative costs. For more information about calculating budget requests, see paragraph IV.3.e.1 of this document. Pending the availability of FY2006 funds, the grant should begin on October 1, 2005 and should expire on September 30, 2008.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

Overview: The Hubert H. Humphrey Fellowship Program was established in 1978. The goal of the Humphrey Program is to strengthen U.S. interaction with outstanding mid-career professionals from a wide range of countries with developmental needs while providing the Humphrey Fellows with opportunities to develop professional expertise and leadership skills for public service in their countries. The Humphrey program targets vital fields supporting development and improvement of the human condition while strengthening the public service sector. Each year this Program brings accomplished professionals from designated countries in Africa, the Western Hemisphere, Asia, Europe, Eurasia and the Middle East to the U.S. for a ten-month stay combining non-degree graduate study, professional development, and leadership training. Candidates for the Program are nominated by U.S. Embassies or binational Fulbright Commissions based on the candidates' professional backgrounds, academic qualifications and leadership potential. By providing these emerging leaders with opportunities to understand U.S. society and culture and to collaborate with senior level colleagues on cutting edge projects in the fields in which they work, the Program provides a basis for the ongoing cooperation of U.S. citizens with their professional counterparts in other countries.

Fellowships are granted competitively to candidates who have a public service orientation, a commitment to their countries' development, and clear leadership potential. Candidates are recruited from both the public and the private sectors, including non-governmental organizations, in the following areas:

• Economic development;

• Finance and banking;

• Agricultural development/agricultural economics;

• Natural resources and environmental management;

• Human resource management;

• Communications/journalism;

• Teaching of English as a foreign language;

• Education;

• Drug abuse education, treatment, and prevention;

• HIV/AIDS policy, prevention, and treatment;

• Public health policy and management;

• Public policy analysis and public administration;

• Law and human rights;

• Urban and regional planning;

• Nonproliferation studies;

• Technology policy and management.

The Fellows typically range in age from late 20s to mid-50s; are mid-career professionals in leadership positions who have the required experience/skills, commitment to public service and potential for advancement in their professions; have a minimum of five years of professional experience; and have interests which relate to policy issues. Fluency in English is required, although to enable the Program to accommodate qualified mid-career professionals beyond traditional elite populations intensive English instruction is offered in the U.S. to selected fellows prior to the Humphrey program year for periods lasting from three weeks to nine months. The Humphrey Program is a U.S. Department of State Fulbright activity. Regulations regarding the overall policy of the program are provided by the Presidentially appointed J. William Fulbright Foreign Scholarship Board. Final selection of nominated candidates is made by the Board.

Fifteen universities are currently serving as Humphrey host institutions. These institutions are selected to host groups of Fellows through a competitive process coordinated by the grantee organization in consultation with the Bureau. They are: American University; Boston University; Cornell University; Emory University; Johns Hopkins University; Massachusetts Institute of Technology; Michigan State University; Pennsylvania State University; Rutgers University; Tulane University; University of California, Davis; University of Maryland, College Park; University of Minnesota; University of North Carolina, Chapel Hill; and University of Washington). Fellows are placed at one of these Humphrey host institutions in professional clusters of approximately ten to fifteen Fellows (e.g., thirteen Fellows in public health policy and management from thirteen different countries might be placed at the same host institution.) The grantee organization will initially be expected to establish sub-contractual arrangements with the current host campuses for one year. However, proposals should include a strategy for evaluating host campus performance over the course of the first year and a strategy for organizing and running a competition to obtain and review applications from a diverse range of institutions to serve as host campuses in appropriate fields of study for the additional two academic years covered by the FY2006 cooperative agreement.

Should an applicant organization wish to work with other organizations in the administration and implementation of this program, the Bureau requires that a subcontract arrangement be developed.

Programs and projects must conform with the Bureau requirements and guidelines outlined in the Solicitation Package, which includes the Request for Grant Proposals (RFGP), the Project Objectives, Goals and Implementation (POGI) and the Proposal Submission Instructions (PSI). The Bureau will work cooperatively and closely with the recipient of this cooperative agreement award and will maintain a regular dialogue on administrative and program issues and questions as they arise over the duration of the award. Contingent upon satisfactory performance based on annual reviews, the Bureau intends to renew this award each year for at least four additional fiscal years, before openly competing it again.

Guidelines

Program Planning and Implementation

Applicant organizations are requested to submit a narrative outlining a comprehensive strategy for the administration and program implementation of the Hubert H. Humphrey Fellowship Program including the preparation of recruitment guidelines and the selection and placement of participants at host universities, monitoring the Fellows' academic and professional programs, and alumni support. In addition, applicant organizations should outline a plan for a range of enhancement activities that will reinforce one another and build on the core academic and professional program. These activities may include, but are not limited to, a fall programwide seminar, professional enhancement workshops, and an end-of-the-year programwide workshop. The comprehensive program strategy should reflect a vision for the Program as a whole, interpreting the goals of the Humphrey Program with creativity, as well as providing innovative ideas and recommendations for the Program. The strategy should include a description of how the various components of the Program will be integrated to build upon and reinforce one another. For example, if workshops or seminars are included in the program strategy, they should build on the campus-based academic and professional program in support of the Humphrey Program's goal of enabling its grantees to develop leadership skills in public service. If a programwide seminar is part of the overall strategy, we request that applicants propose a theme and identify by name potential speakers who will stimulate the Fellows to engage in discussions with the speakers and one another in ways that are consistent with the seminar's objectives and the Program's goals.

The Bureau of Educational and Cultural Affairs encourages partnership and collaboration between the Humphrey program and Federal Agencies. Applicants should outline a model for professionally engaging U.S. public servants, national experts, and other committed U.S. citizens with the Humphrey Program through participation in coursework, joint professional briefings, workshops, or seminars. The costs of this element of the program should be primarily borne by cooperating Federal agencies or other co-funders that recognize participation with Humphrey Fellows by their staffs as a significant opportunity to create closer collaboration with foreign counterparts on global issues with significant domestic impact. Applicants should describe how they will provide annual reports to the Bureau's program office as part of the formal reporting requirements on the cooperative agreement, to describe the benefits of the Humphrey Program to U.S. citizens. Additional guidance on reporting requirements may be found in section IV.3.d.3 of this document.

Applicants should describe how they will provide periodic electronic data uploads of grantee information for the Bureau's participant database, and how they will ensure that these updates are accurate. Applicants may contact the Bureau for additional information on the technical requirements for the data updates. To ensure that the general public and potential applicants have access to accurate information about the Humphrey Program, please describe a strategy for maintaining a Humphrey Program website and for updating it periodically so that Fellows' achievements and statements; listings of eligible countries; Embassy and Fulbright Commission contacts; and host campuses are current and complete.

Applicants must also be prepared to collaborate with the Bureau to create and maintain a Humphrey-specific section of the ECA alumni website and help promote this website to alumni as well as current participants. No grant funds should be used to create or maintain an additional alumni website separate from the Bureau's website.

Alumni activities should address the following ECA alumni program goals: To foster U.S. diplomatic mission engagement with exchange alumni; to foster alumni implementation and teaching of the concepts they explored during their exchange programs; to provide training that will foster the abilities of alumni to implement or teach these concepts; to develop long-term evaluations of ECA programs. Alumni programming may include, but is not limited to, activities such as workshops allowing alumni to share their knowledge with the public, especially youth; activities fostering community service, or small grants competitions.

Pending availability of funds, this grant should begin on October 1, 2005 and will run through September 30, 2008 (the administrative portion of the grant will only cover October 1, 2005 through September 30, 2006). This grant would include both the administrative and program portions of the Hubert H. Humphrey Fellowship Program such as: the selection and placement of the 2006-2007 class of grantees and the monitoring of their programs; the administration of creative programs of follow-up support and coordination with Humphrey Fellowship Program alumni from all classes in coordination with the Bureau's comprehensive alumni outreach efforts; and the administration and implementation of enhancement activities for the 2006-2007 class such as workshops, seminars, or other activities to be proposed by the applicant organizations.

A separate agreement with the current administering organization will cover administrative implementation of the program for academic year 2005-2006 Fellows (whose program costs will be covered in FY2005) until their departure in the late spring of 2006. For the FY2006 cooperative agreement, which this announcement covers, the grantee organization will have responsibility for selection, placement, and program implementation for the 2006-2007 Fellows and for alumni programming. In FY2007 and subsequent years, if the grant is renewed, the grantee organization would additionally be responsible for monitoring the programs of the Fellows who will be in the U.S. in subsequent years (for example, the programs of 2006-2007 Fellows in FY2007). Please refer to the POGI for specific program and budget guidelines.

In a cooperative agreement, ECA/A/S/U is substantially involved in program activities above and beyond routine grant monitoring. ECA/A/S/U activities and responsibilities for this program are as follows: ECA/A/S/U will consult frequently with the grantee organization on details of program implementation as illustrated in the following list of items for which program office consultation and approval is required.

• Formulation of program policy;

• Program evaluation activities;

• Texts for publication;

• Co-funding initiatives;

• Candidate Review Committee members;

• Recommendations of the host campus selection committee;

• Alumni conference plans and other alumni support initiatives;

• Specific plans for enhancement activities for fellows such as workshops, seminars, and retreats including themes, agendas, and speakers;

• Country eligibility and nomination quotas;

• Consultation with regard to the assignment of recommended candidates to principal or alternate status;

II. Award Information

Type of Award: Cooperative Agreement. ECA's level of involvement in this program is listed under number I above.

Fiscal Year Funds: 2006.

Approximate Total Funding: $9 million.

Approximate Number of Awards: 1.

Approximate Average Award: Pending availability of funds, $9 million.

Anticipated Award Date: Pending availability of funds, October 1, 2005.

Anticipated Project Completion Date: September 30, 2008.

Additional Information: Pending successful implementation of this program and the availability of funds in subsequent fiscal years, it is ECA's intent to renew this grant each year for a period of not less than four additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, applicants must maintain written records to support all costs which are claimed as their contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a) Bureau grant guidelines require that organizations with less than four years experience in conducting international exchanges be limited to $60,000 in Bureau funding. ECA anticipates issuing one award, in an amount up to $9 million to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1. Contact Information To Request an Application Package

Please contact the Humphrey Fellowships and Institutional Linkages Branch, ECA/A/S/U, Room 349, U.S. Department of State, SA-44, 301 4th Street, SW., Washington, DC 20547, telephone: (202) 205-8434, fax (202) 401-1433, e-mail: johnsonML3@state.gov to request a Solicitation Package. Please refer to the Funding Opportunity Number ECA/A/S/U-06-01 when making your request.

The Solicitation Package contains the Proposal Submission Instruction (PSI) document which consists of required application forms, and standard guidelines for proposal preparation.

It also contains the Project Objectives, Goals and Implementation (POGI) document, which provides specific information, award criteria and budget instructions tailored to this competition.

Please specify Bureau Program Officer Michelle Johnson and refer to the Funding Opportunity Number, ECA/A/S/U-06-01 on all inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and seven copies of the application should be sent per the instructions under IV.3e. “Submission Dates and Times section” below.

IV.3a.

You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All Proposals Must Contain an Executive Summary, Proposal Narrative and Budget

Please Refer to the Solicitation Package. It contains the mandatory Proposal Submission Instructions (PSI) document and the Project Objectives, Goals and Implementation (POGI) document for additional formatting and technical requirements.

IV.3c.

You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please Take Into Consideration the Following Information When Preparing Your Proposal Narrative

IV.3d.1 Adherence to All Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. Employees of the Grantee will be named Alternate Responsible Officers and will be responsible for issuing DS-2019 forms to participants in this program and performing all actions to comply with the Student and Exchange Visitor Information System (SEVIS). A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809. Please refer to Solicitation Package for further information.

IV.3.d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3.d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

The Office of Global Educational Programs is placing renewed emphasis on quantitative and qualitative measures of achievement for each program. Program evaluations should assess the results anticipated by your program objectives, which in turn should respond to the Bureau's goals for this program. The following goals reflect the Bureau's priorities for this program:

(1) To provide academic training, professional expertise, and improved understanding of the United States to program participants;

(2) To provide opportunities for Fellows to interact with American professional counterparts and the U.S. public at the local level, which provides the basis for long-term cooperation between U.S. citizens and professionals throughout the developing world;

(3) To provide leadership training to mid-career professionals from the developing world, equipping participants with skills to lead in public service when they return to their home countries.

Successful monitoring and evaluation depend heavily on setting clear goals and outcomes at the outset of a program. Your evaluation plan should include a description of your project's objectives, your anticipated project outcomes, how and when you intend to measure these outcomes (performance indicators), and how these outcomes relate to the above goals. The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes influencing policy improvement, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

ECA/A/S/U and the Bureau's Office of Policy and Evaluation will work with the recipient of this cooperative agreement to develop appropriate evaluation goals and performance indicators.

Grantees will be required to provide reports analyzing their evaluation findings to the Bureau in their regular program reports. All data collected, including survey responses and contact information, must be maintained for a minimum of three years and provided to the Bureau upon request.

IV.3.d.4. Describe your plans for staffing: Please provide a staffing plan which outlines the responsibilities of each staff person and explains which staff member will be accountable for each program responsibility. Wherever possible please streamline administrative processes.

IV.3e. Please Take the Following Information Into Consideration When Preparing Your Budget

IV.3.e.1. Applicants must submit a comprehensive budget for the program. The budget should not exceed $9 million for program and administrative costs. There must be a summary budget as well as breakdowns reflecting both administrative and program budgets. Applicants should provide separate sub-budgets for each program component, phase, location, or activity to provide clarification.

The summary and detailed administrative and program budgets should be accompanied by a narrative which provides a brief rationale for each line item including a methodology for estimating an appropriate average maintenance allowance levels and tuition costs for the 2006-2007 class of Fellows, the number that can be accommodated at the levels proposed. The total administrative costs funded by the Bureau must be reasonable and appropriate.

IV.3.e.2. Allowable costs for the program and additional budget guidance are outlined in detail in the POGI document.

Please refer to the Solicitation Package for complete budget guidelines and formatting instructions.

IV.3f. Submission Dates and Times

Application Deadline Date: Friday, March 18, 2005.

Explanation of Deadlines: In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and seven copies of the application should be sent to: U.S. Department of State, SA-44, Bureau of Educational and Cultural Affairs, Ref.: ECA/A/S/U-06-01, Program Management, ECA/EX/PM, Room 534, 301 4th Street, SW., Washington, DC 20547. Along with the Project Title, all applicants must enter the above Reference Number in Box 11 on the SF-424 contained in the mandatory Proposal Submission Instructions (PSI) of the solicitation document.

IV.3g. Intergovernmental Review of Applications

Executive Order 12372 does not Apply to this Program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Program Development and Management: Your proposed narrative should exhibit originality, substance, precision, and relevance to the Bureau's mission as well as the objectives of the Hubert H. Humphrey Fellowship Program. It should demonstrate how the distribution of administrative resources will ensure adequate attention to program administration.

2. Multiplier effect/impact: The proposed administrative strategy should maximize the Humphrey Program's potential to encourage the establishment of long-term institutional and individual linkages.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity and Record: Proposals should demonstrate an institutional record of successful exchange programs, including responsible fiscal management and full compliance with all reporting requirements for past Bureau grants as determined by Bureau Grants Staff. Proposed personnel and institutional resources should be adequate and appropriate to achieve the program's goals.

5. Follow-on and Alumni Activities: Proposals should provide a plan for continued follow-on activity (both with and without Bureau support) ensuring that the Humphrey Fellowship year is not an isolated event. Activities should include tracking and maintaining updated lists of all alumni and facilitating follow-up activities for alumni.

6. Project Evaluation: Proposals should include a plan and methodology to evaluate the Humphrey Program's degree of success in meeting program objectives, both as the activities unfold and at their conclusion. Draft survey questionnaires or other technique plus description of methodologies to use to link outcomes to original project objectives are recommended. Successful applicants will be expected to submit intermediate reports after each project component is concluded, or quarterly, whichever is less frequent.

7. Cost-effectiveness and Cost Sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information:

http://www.whitehouse.gov/omb/grants.

http://exchanges.state.gov/education/grantsdiv/terms.htm#articleI.

VI.3. Reporting Requirements

You must provide ECA with a hard copy original plus one copy of the following reports:

Quarterly financial reports; Annual program reports for the first and second year of the agreement; and final program and financial report no more than 90 days after the expiration of the award.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Michelle Johnson, Office of Global Educational Programs, ECA/A/S/U, Room 349, U.S. Department of State, SA-44, 301 4th Street, SW., Washington, DC 20547, telephone: 202-205-8434, fax 202-401-1433, JohnsonML3@state.gov.

All correspondence with the Bureau concerning this RFGP should reference the title and number ECA/A/S/U-06-01. Please read the complete Federal Register announcement before sending inquiries or submitting proposals. Once the RFGP deadline has passed, Bureau staff may not discuss this competition with applicants until the proposal review process has been completed.

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: January 17, 2005.
C. Miller Crouch,
Principal Deputy Assistant Secretary, Bureau of Educational and Cultural Affairs, Department of State.

[FR Doc. 05-1229 Filed 1-21-05; 8:45 am]

BILLING CODE 4710-05-P